OFFICE OF PERSONNEL MANAGEMENT

SES Performance Review Board

AGENCY: Office of Personnel Management.

ACTION: Notice.

SUMMARY: Notice is hereby given of the appointment of members of the OPM Performance Review Board.

FOR FURTHER INFORMATION CONTACT: Mark Reinhold, Center for Human Capital Management Services, Office of Personnel Management, 1900 E Street, NW., Washington, DC 20415, (202) 606-1402.

SUPPLEMENTARY INFORMATION: Section 4314(c)(1) through (5) of Title 5, U.S.C., requires each agency to establish, in accordance with regulations prescribed by the Office of Personnel Management, one or more SES performance review boards. The board reviews and evaluates the initial appraisal of a senior executive's performance by the supervisor, and considers recommendations to the appointing authority regarding the performance of the senior executive.

Office Of Personnel Management.
Linda M. Springer,
Director.

The following have been designated as members of the Performance Review Board of the Office of Personnel Management:

Dan G. Blair, Deputy Director—Chair.

Patricia L. Hollis, Chief of Staff and Director of External Affairs.

Clarence Crawford, Chief Financial Officer.

Robert Danbeck, Associate Director, Human Resources Products and Services Division.

Nancy Kichak, Associate Director, Strategic Human Resources Policy Division.

Solly Thomas, Acting Associate Director, Human Capital Leadership and Merit System Accountability Division.

Kathy Dillaman, Associate Director, Federal Investigative Services Division.

Ronald C. Flom, Associate Director, Management Services Division and Chief Human Capital Officer.

Kerry McTigue, General Counsel.

William A. Jackson Jr., Deputy Associate Director for Human Capital Management Services—Executive Secretariat.

[FR Doc. E6-18789 Filed 11-7-06; 8:45 am]

BILLING CODE 6325-45-P